DEPARTMENT OF HOUSING AND URBAN DEVELOPMENT

24 CFR Part 902

[Docket No. FR-4707-N-07]

Public Housing Assessment System (PHAS) Proposed Rule: Notice of Extension of Public Comment Period

AGENCY: Office of the Assistant Secretary for Public and Indian Housing, HUD.

ACTION: Notice of extension of public comment period.

SUMMARY: This notice extends, for an additional sixty days, the public comment period for the proposed rule that would amend the regulations for the Public Housing Assessment System (PHAS).

DATES: Comment Due Date: June 8, 2003.

FOR FURTHER INFORMATION CONTACT: For further information contact the Office of Public and Indian Housing Real Estate Assessment Center (PIH-REAC), Attention: Wanda Funk, Department of Housing and Urban Development, 1280 Maryland Avenue, SW., Suite 800, Washington, DC 20024; telephone Technical Assistance Center at (888) 245-4860 (this is a toll-free number). Persons with hearing or speech impairments may access that number via TTY by calling the Federal Information Relay Service at (800) 877-8339 (this is a toll-free number). Additional information is available from the PIH-REAC Internet site, http://www.hud.gov/reac.

SUPPLEMENTARY INFORMATION: On February 6, 2003 (68 FR 6262), HUD issued a proposed rule that would amend the Public Housing Assessment System (PHAS) regulations, codified at 24 CFR part 902, to provide additional information on PHAS procedures, revise certain procedures, and establish new procedures for the assessment of the physical condition, financial condition, management operations, and resident services and satisfaction with services provided to public housing residents. HUD intended to publish proposed revised grading notices at the time that it published the PHAS proposed rule. These notices will be published soon. In order to allow the public housing agencies (PHAs) and the public the benefit of reviewing the grading notices in relation to the PHAS proposed rule, HUD is extending the public comment period for an additional 60 days to coincide with the public comment period for the grading notices. The public comment due date for the February 6, 2003, PHAS proposed rule is extended to June 8, 2003.

Dated: March 28, 2003.
Michael Liu,
Assistant Secretary for Public and Indian Housing.

[FR Doc. 03-8175 Filed 4-3-03; 8:45 am]

BILLING CODE 4210-33-P